DEPARTMENT OF THE INTERIOR

Bureau of Land Management

[LLES962000 L14200000.BJ000015X]

Eastern States: Filing of Plat of Survey

AGENCY: Bureau of Land Management, Interior.

ACTION: Notice of Filing of Plat of Survey; Michigan.

SUMMARY: The Bureau of Land Management (BLM) will officially file the plat of survey of the lands described below in the BLM-Eastern States Office, Washington, DC at least 30 calendar days from the date of publication in the Federal Register.

FOR FURTHER INFORMATION CONTACT: Bureau of Land Management, Eastern States Office, 20 M Street SE., Washington, DC, 20003. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was requested by the Bureau of Indian Affairs.

The lands surveyed are:

Michigan Meridian, Michigan

T. 3 S., R. 16 W.

The plat of survey represents the dependent resurvey of a portion of the west boundary, a portion of the subdivisional lines, a portion of the adjusted record meanders of the Paw Paw River, the subdivision of sections 7, 8, 18, and 19, the survey of the boundaries of land held in trust by the United States for the Pokagon Band of Potawatomi Indians in sections 7, 8, 18 and 19, and the informative traverse of portions of the present day meanders of the Paw Paw River, Township 3 South, Range 16 West, of the Michigan Meridian, in the State of Michigan, and was accepted August 31, 2015.

We will place a copy of the plat we described in the open files. It will be available to the public as a matter of information.

If BLM receives a protest against this survey, as shown on the plat, prior to the date of the official filing, we will stay the filing pending our consideration of the protest.

We will not officially file the plat until the day after we have accepted or dismissed all protests and they have become final, including decisions on appeals.

Dated: October 7, 2015.
Dominica VanKoten,
Chief Cadastral Surveyor.

[FR Doc. 2015-26445 Filed 10-16-15; 8:45 am]

BILLING CODE P